DEPARTMENT OF STATE

[Public Notice 5674]

Determination Pursuant to the Darfur Peace and Accountability Act Related to the Provision of Military Assistance in Support of a Southern Sudan Security Sector Transformation Program (SST)

Pursuant to the authority vested in me by the laws of the United States, including Section 8(d) of the Darfur Peace and Accountability Act (Pub. L. 109-344) and the Presidential Delegation of Authority in E.O. 13412, I hereby:

—Determine that the provision of non-lethal military equipment and related defense services (hereafter “assistance”) to the Government of Southern Sudan for the purpose of constituting a professional military force is in the national security interests of the United States; and

—Authorize, notwithstanding any other provision of law, for Fiscal Years 2007 and 2008, the provision of any such items 15 days after notification of this determination.

This determine covers the provision of all such non-lethal assistance, including vehicles and communications equipment; power generation; facilities construction/renovation; training and technical assistance; recommendations for force structure, training, equipment, infrastructure and resource management; military advisers; and the provision of other non-lethal defense articles and related defense services in support of military reform in Sothern Sudan, including support to the Sudan People's Liberation Movement, appropriate for the aforementioned purpose.

You are hereby authorized and directed to report this determination to Congress and publish it in the Federal Register.

Dated: January 2, 2007.
Condoleezza Rice,
Secretary of State, Department of State.

[FR Doc. E7-630 Filed 1-17-07; 8:45 am]

BILLING CODE 4710-26-P